DEPARTMENT OF TRANSPORTATION

Federal Aviation Administration

RTCA Special Committee 200: Integrated Modular Avionics (IMA)/EUROCAE WG-60

AGENCY: Federal Aviation Administration (FAA), DOT.

ACTION: Notice of RTCA Special Committee 200 meeting.

SUMMARY: The FAA is issuing this notice to advise the public of a meeting of RTCA Special Committee 200: Integrated Modular Avionics.

DATES: The meeting will be held on May 11-14, 2004 from 9 a.m. to 5 p.m.

ADDRESSES: The meeting will be held at EUROCE, 17 rue Hamelin, Paris, France.

FOR FURTHER INFORMATION CONTACT: (1) RTCA Secretariat, 1828 L Street, NW., Suite 805, Washington, DC 20036-5133; telephone (202) 833-9339; fax (202) 833-9434; Web site http://www.rtca.org. (2) Mr. Christian Lefebvre; telephone +33 1 4505 7227; e-mail christian.lefebvre@eurocae.com.

SUPPLEMENTARY INFORMATION: Pursuant to section 10(a)(2) of the Federal Advisory Committee Act (Pub. L. 92-463, 5 U.S.C., Appendix 2), notice is hereby given for a Special Committee 200 meeting. The agenda will include:

• May 11

• Editorial Team Meeting

• Subgroup meet in working sessions

• May 12

• Opening Session (Welcome, Introductory and Administrative Remarks, Review Agenda, Review Summary of Previous Meeting)

• Review Action Items

• Review and Approve Subgroup Activities

• Target for this Meeting

• Subgroups Meet in Working Sessions

• May 13

• Subgroups Meet in Working Sessions

• May 14

• Review of Subgroup Meetings

• Review of Consolidated Draft Document

• Plans for Editorial Group Activities

• Review of Action Items

• Closing Session (Make Assignments, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 15, 2004.
Robert Zoldos,
FAA Systems Engineer, RTCA Advisory Committee.

[FR Doc. 04-9925 Filed 4-30-04; 8:45 am]

BILLING CODE 4910-13-M